COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List products and services to be furnished by nonprofit agencies employing persons who are blind or have other severe disabilities.

EFFECTIVE DATE: March 25, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On November 9, December 21, 2001 and January 4, 2002 the Committee for Purchase From People Who Are Blind or Severely Disabled published notices (66 FR 56635, 65876 and 67 FR 556) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will not have a severe economic impact on current contractors for the products and services.

3. The action will result in authorizing small entities to furnish the commodities and products and services.

4. There are no known regulatory alternatives which would accomplish the objectives of the Javits-Wagner-O'Day Act (41 U.S.C. 46-48c) in connection with the products and services proposed for addition to the Procurement List.

Accordingly, the following products and services are added to the Procurement List:

Products

Product/NSN: Correct-It Roller Applicator & Refill (Correct-It Refillable Applicator)/7510-01-338-3317.

NPA: Industries for the Blind, Inc., Milwaukee, Wisconsin.

Contract Activity: Office Supplies & Paper Products Commodity Center, New York, New York.

Product/NSN: Correct-It Roller Applicator & Refill (Correct-It Roller Refill Cartridge)/7510-01-350-1810.

NPA: Industries for the Blind, Inc., Milwaukee, Wisconsin.

Contract Activity: Office Supplies & Paper Products Commodity Center, New York, New York.

Product/NSN: Correct-It Roller Applicator & Refill (Correct-It Roller Non-Refillable Applicator)/7510-01-390-0717.

NPA: Industries for the Blind, Inc., Milwaukee, Wisconsin.

Contract Activity: Office Supplies & Paper Products Commodity Center, New York, New York.

Product/NSN: Correct-It Roller Applicator & Refill (Correct-It Adjustable Tip Applicator)/7520-00-NIB-1524.

NPA: Industries for the Blind, Inc., Milwaukee, Wisconsin.

Contract Activity: Office Supplies & Paper Products Commodity Center, New York, New York.

Product/NSN: Correct-It Roller Applicator & Refill (Correct-It Mini Dispenser—3 Pack)/7520-00-NIB-1525.

NPA: Industries for the Blind, Inc., Milwaukee, Wisconsin.

Contract Activity: Office Supplies & Paper Products Commodity Center, New York, New York.

Product/NSN: Correct-It Roller Applicator & Refill (Dry-Lighter 3 Pack—Green, Pink, Yellow)/7520-00-NIB-1526.

NPA: Industries for the Blind, Inc., Milwaukee, Wisconsin.

Contract Activity: Office Supplies & Paper Products Commodity Center, New York, New York.

Product/NSN: Correct-It Roller Applicator & Refill (Dry-Lighter 3 Pack—Yellow)/7520-00-NIB-1527.

NPA: Industries for the Blind, Inc., Milwaukee, Wisconsin.

Contract Activity: Office Supplies & Paper Products Commodity Center, New York, New York.

Services

Service Type/Location: Food Service Attendant/Air National Guard-Iowa, Des Moines, Iowa.

NPA: Progress Industries, Newton, Iowa.

Contract Activity: Iowa Air National Guard, Des Moines Iowa.

Service Type/Location: Mail and Messenger Service/Department of Housing and Urban Development, Washington, DC.

NPA: Didlake, Inc., Manassas, Virginia.

Contract Activity: Department of Housing & Urban Development.

This action does not affect current contracts awarded prior to the effective date of this addition or options that may be exercised under those contracts.

Sheryl D. Kennerly,
Director, Information Management.

[FR Doc. 02-4298 Filed 2-21-02; 8:45 am]

BILLING CODE 6353-01-P